DEPARTMENT OF LABOR

Proposed Information Collection Request for Trade Adjustment Assistance Reform Act of 2002 (OMB Control Number 1205-0392): Comment Request for Extension Without Changes

AGENCY: Employment and Training Administration.

ACTION: Notice.

SUMMARY: The Department of Labor, as part of its continuing effort to reduce paperwork and respondent burden conducts a preclearance consultation program to provide the general public and federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed. Currently, the Employment and Training Administration is soliciting comments concerning the collection of data about the Trade Adjustment Assistance Reform Act of 2002.

A copy of the proposed information collection request (ICR) can be obtained by contacting the office listed below in the addressee section of this notice or by accessing: http: //www.doleta.gov/OMBCN/OMBControlNumber.cfm.

DATES: Written comments must be submitted to the office listed in the addressee's section below on or before September 30, 2008.

ADDRESSES: Submit written comments to Karen A. Staha, Performance and Technology Office, Employment and Training Administration, U.S. Department of Labor, 200 Constitution Avenue, NW., Room S-5206, Washington, DC 20210. Telephone number: 202-693-3420 (this is not a toll-free number). Fax: 202-693-3490. E-mail: ETAPerforms@dol.gov.

SUPPLEMENTARY INFORMATION:

I. Background

On June 16, 1998, the Office of Management and Budget (OMB) approved a Government Performance and Results Act (GPRA) compliant performance and participant outcomes data system for the TAA Program; this system was revised in 2000 and is known as the Trade Act\Participant Report (TAPR). States implemented use of the TAPR beginning with the first quarter of the fiscal year 1999 (October through December, 1998), and have continued to collect and report data every quarter since then. The Employment and Training Administration is proposing similar changes to the reporting requirements for Workforce Investment Act Programs and the Wagner-Peyser Act Programs. Please note that ETA will seek comments regarding extensions to these collections in separate Federal Register notices.

II. Review Focus

The Department of Labor is particularly interested in comments which:

* Evaluate whether the proposed collection of information is necessary for the proper performance of the functions of the agency, including whether the information will have practical utility;

* Evaluate the accuracy of the agency's estimate of the burden of the proposed collection of information, including the validity of the methodology and assumptions used;

* Enhance the quality, utility, and clarity of the information to be collected; and

* Minimize the burden of the collection of information on those who are to respond, including through the use of appropriate automated, electronic, mechanical, or other technological collection techniques or other forms of information technology, e.g., permitting electronic submissions of responses.

III. Current Actions

Type of Review: Extension without changes.

Agency: Employment and Training Administration.

Title: Trade Act Participant Report (TAPR).

OMB Number: 1205-0392.

Affected Public: State, Local, or Tribal Government.

Forms: Trade Adjustment Assistance Reform Act of 2002, see table below for list of forms.

Total Respondents: 50 States.

Frequency: Quarterly and annual.

Total Responses Annually: 50 submissions annually—each state submits TAPR files each quarter.

Average Time per Response: 2.8 hours.

Estimated Total Burden Hours:

TAA burden | Annual national participants | Hours per TAPR record | Annual TAPR burden hours | Applicable hourly rate | Annual TAPR burden dollars
Data Collection | 30,000 | 0.3 | 9,000 | $32.50 | $292,500
TAPR Submission | 50 | 2.5 | 500 | 32.50 | 16,250
Total |  |  |  |  | 308,750

Total Burden Cost (capital/startup): $0.

Total Burden Cost (operating/maintaining): $308,750.

Comments submitted in response to this comment request will be summarized and/or included in the request for Office of Management and Budget approval of the information collection request; they will also become a matter of public record.

Dated: July 25, 2008.
John R. Beverly,
Administrator, Office of Performance and Technology, Employment and Training Administration.

[FR Doc. E8-17650 Filed 7-31-08; 8:45 am]

BILLING CODE 4510-FN-P